DEPARTMENT OF ENERGY

Federal Energy Regulatory Commission

Combined Notice of Filings #2

Take notice that the Commission received the following electric corporate filings:

Docket Numbers: EC24-41-001.

Applicants: Tri-State Generation and Transmission Association, Inc.

Description: Notice of Non-Material Change in Circumstances of Tri-State Generation and Transmission Association, Inc.

Filed Date: 5/1/24.

Accession Number: 20240501-5489.

Comment Date: 5 p.m. ET 5/22/24.

Docket Numbers: EC24-76-000.

Applicants: David Energy Supply, LLC.

Description: Application for Authorization under Section 203 of the Federal Power Act of David Energy Supply, LLC.

Filed Date: 5/1/24.

Accession Number: 20240501-5490.

Comment Date: 5 p.m. ET 5/22/24.

Take notice that the Commission received the following electric rate filings:

Docket Numbers: ER10-1852-093; ER19-774-012; ER10-2641-047.

Applicants: Oleander Power Project, Limited Partnership, Stanton Clean Energy, LLC, Florida Power & Light Company.

Description: Notice of Change in Status of Florida Power & Light Company, et al.

Filed Date: 5/1/24.

Accession Number: 20240501-5492.

Comment Date: 5 p.m. ET 5/22/24.

Docket Numbers: ER10-2475-032; ER10-1520-015; ER10-1521-015; ER10-2474-031; ER10-3246-025; ER11-4666-006; ER11-4667-006; ER12-295-005; ER13-1266-050; ER15-2211-047; ER20-2493-010; ER22-1385-009; ER23-674-006; ER23-676-006.

Applicants: BHE Power Watch, LLC, BHE Wind Watch, LLC, BHER Market Operations, LLC., OTCF, LLC, MidAmerican Energy Services, LLC, CalEnergy, LLC, NaturEner Rim Rock Wind Energy, LLC, NaturEner Glacier Wind Energy 2, LLC, NaturEner Glacier Wind Energy 1, LLC, PacifiCorp, Sierra Pacific Power Company, Occidental Power Marketing, L.P., Occidental Power Services, Inc., Nevada Power Company.

Description: Notice of Non-Material Change in Status of Nevada Power Co., et al.

Filed Date: 4/30/24.

Accession Number: 20240430-5644.

Comment Date: 5 p.m. ET 5/21/24.

Docket Numbers: ER20-720-001; ER16-1804-004; ER20-721-001; ER20-886-001; ER21-6-002; ER21-2140-001; ER21-2217-005; ER22-484-002; ER23-101-002; ER23-102-002; ER23-103-002; ER23-104-002; ER23-1812-001; ER24-966-002.

Applicants: Eleven Mile Solar Center, LLC, Sunflower Energy Center, LLC, Sunrise Wind LLC, South Fork Wind, LLC, Revolution Wind, LLC, North East Offshore, LLC, Ford County Wind Farm LLC, Lincoln Land Wind, LLC, Haystack Wind Project, LLC, Muscle Shoals Solar, LLC, Orsted US Trading LLC, Willow Creek Wind Power LLC, Deepwater Wind Block Island, LLC, Plum Creek Wind, LLC.

Description: Notice of Change in Status of Plum Creek Wind, LLC, et al.

Filed Date: 4/30/24.

Accession Number: 20240430-5645.

Comment Date: 5 p.m. ET 5/21/24.

Docket Numbers: ER23-1762-003; ER23-1764-003; ER23-1820-003.

Applicants: Evergy Kansas Central, Inc., Southwest Power Pool, Inc., Evergy Kansas Central, Inc.

Description: Settlement Implementation Compliance Filing of Evergy Kansas Central, Inc., et al.

Filed Date: 5/1/24.

Accession Number: 20240501-5493.

Comment Date: 5 p.m. ET 5/22/24.

Docket Numbers: ER24-1581-001.

Applicants: Alabama Power Company, Georgia Power Company, Mississippi Power Company.

Description: Tariff Amendment: Alabama Power Company submits tariff filing per 35.17(b): Kirkham Solar Farms I (Kirkham L&MA) LGIA Amendment Filing to be effective 3/8/2024.

Filed Date: 5/2/24.

Accession Number: 20240502-5117.

Comment Date: 5 p.m. ET 5/23/24.

Docket Numbers: ER24-1611-001.

Applicants: Alabama Power Company, Georgia Power Company, Mississippi Power Company.

Description: Tariff Amendment: Alabama Power Company submits tariff filing per 35.17(b): Pine Belt Solar LGIA Amendment Filing to be effective 3/12/2024.

Filed Date: 5/2/24.

Accession Number: 20240502-5121.

Comment Date: 5 p.m. ET 5/23/24.

Docket Numbers: ER24-1891-001.

Applicants: Idaho Power Company.

Description: Tariff Amendment: Amendment to RS No. 175—Concurrence—Jackpot Holdings, LLC SFA to be effective 5/1/2024.

Filed Date: 5/2/24.

Accession Number: 20240502-5146.

Comment Date: 5 p.m. ET 5/23/24.

Docket Numbers: ER24-1892-001.

Applicants: Idaho Power Company.

Description: Tariff Amendment: Amendment to RS No. 176—Concurrence—Franklin Solar SFA to be effective 5/1/2024.

Filed Date: 5/2/24.

Accession Number: 20240502-5147.

Comment Date: 5 p.m. ET 5/23/24.

Docket Numbers: ER24-1914-002.

Applicants: Idaho Power Company.

Description: Tariff Amendment: Amend Tariff Name—SA 521—Kuna Storage to be effective 1/4/2024.

Filed Date: 5/2/24.

Accession Number: 20240502-5122.

Comment Date: 5 p.m. ET 5/23/24.

Docket Numbers: ER24-1928-000.

Applicants: Midcontinent Independent System Operator, Inc.

Description: § 205(d) Rate Filing: 2024-05-02_SA 3478 Dairyland Power-Fillmore County Solar 2nd Rev GIA (J718) to be effective 4/19/2024.

Filed Date: 5/2/24.

Accession Number: 20240502-5086.

Comment Date: 5 p.m. ET 5/23/24.

Docket Numbers: ER24-1929-000.

Applicants: Willowbrook Solar I, LLC.

Description: Baseline eTariff Filing: Rate Schedule FERC No. 1 Reactive Power Compensation Baseline to be effective 5/24/2024.

Filed Date: 5/2/24.

Accession Number: 20240502-5098.

Comment Date: 5 p.m. ET 5/23/24.

Docket Numbers: ER24-1930-000.

Applicants: Pawtucket Power Associates Limited Partnership.

Description: Tariff Amendment: Notice of Cancellation to be effective 5/3/2024.

Filed Date: 5/2/24.

Accession Number: 20240502-5123.

Comment Date: 5 p.m. ET 5/23/24.

Docket Numbers: ER24-1931-000.

Applicants: PJM Interconnection, L.L.C.

Description: § 205(d) Rate Filing: Amendment to WMPA, Service Agreement No. 6213; AF1-147 to be effective 7/2/2024.

Filed Date: 5/2/24.

Accession Number: 20240502-5135.

Comment Date: 5 p.m. ET 5/23/24.

Docket Numbers: ER24-1932-000.

Applicants: The Empire District Electric Company.

Description: Compliance filing: Compliance with Order 872 Amending Cost-Based Generation Formula Rate to be effective 5/31/2024.

Filed Date: 5/2/24.

Accession Number: 20240502-5136.

Comment Date: 5 p.m. ET 5/23/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 2, 2024.
Debbie-Anne A. Reese,
Acting Secretary.

[FR Doc. 2024-10036 Filed 5-7-24; 8:45 am]

BILLING CODE 6717-01-P